NUCLEAR REGULATORY COMMISSION

Sunshine Federal Register Notice

Agency Holding the Meetings: Nuclear Regulatory Commission.

DATES: Weeks of June 2, 9, 16, 23, 30, July 7, 2008.

Place: Commissioners' Conference Room, 11555 Rockville Pike, Rockville, Maryland.

Status: Public and Closed.

Week of June 2, 2008

Wednesday, June 4, 2008

9 a.m.

Briefing on Results of the Agency Action Review Meeting (AARM) (Public Meeting) (Contact: Shaun Anderson, (301) 415-2039).

This meeting will be Webcast live at the Web address— http://www.nrc.gov.

Thursday, June 5, 2008

1:30 p.m.

Meeting with Advisory Committee on Reactor Safeguards (ACRS) (Public Meeting) (Contact: Tanny Santos, (301) 415-7270).

This meeting will be Webcast live at the Web address— http://www.nrc.gov.

Week of June 9, 2008—Tentative

There are no meetings scheduled for the Week of June 9, 2008.

Week of June 16, 2008—Tentative

There are no meetings scheduled for the Week of June 16, 2008.

Week of June 23, 2008—Tentative

Friday, June 27, 2008

9:30 a.m.

Periodic Briefing on New Reactor Issues (Public Meeting) (Contact: Donna Williams, (301) 415-1322).

This meeting will be Webcast live at the Web address— http://www.nrc.gov.

Week of June 30, 2008—Tentative

Tuesday, July 1, 2008

9 a.m.

Hearing: Diablo Canyon, 10 CFR Part 2, Subpart K Proceeding, Oral Arguments (Public Meeting) (Contact: John Cordes, (301) 415-1600).

This meeting will be Webcast live at the Web address— http://www.nrc.gov.

Week of July 7, 2008—Tentative

There are no meetings scheduled for the Week of July 7, 2008.

*The schedule for Commission meetings is subject to change on short notice. To verify the status of meetings, call (recording)—(301) 415-1292. Contact person for more information: Michelle Schroll, (301) 415-1662.

Additional Information

Affirmation of (1) Oyster Creek, Indian Point, Pilgrim, and Vermont Yankee License Renewals, Docket Nos. 50-219-LR, 50-247-LR, 50-286-LR, 50-293-LR, 50-271-LR, Petition to Suspend Proceedings (Tentative); and (2) U.S. Department of Energy (High Level Waste Repository: Pre-Application Matters), Docket No. PAPO-00—The State of Nevada's Notice of Appeal from the PAPO Board's January 4, 2008 and December 12, 2007 Orders and The State of Nevada's Motion to File a Limited Reply (Tentative) previously scheduled on Wednesday, May 26, 2008 at 9:25 a.m. was postponed and is not yet rescheduled.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 29, 2008.
R. Michelle Schroll,
Office of the Secretary.

[FR Doc. 08-1315 Filed 5-30-08; 10:30 am]

BILLING CODE 7590-01-P